DEPARTMENT OF COMMERCE

National Oceanic and Atmospheric Administration

RIN 0648-XD491

Gulf of Mexico Fishery Management Council; Public Meeting

AGENCY: National Marine Fisheries Service (NMFS), National Oceanic and Atmospheric Administration (NOAA), Commerce Administration (NOAA), Commerce.

ACTION: Notice; public meeting.

SUMMARY: The Gulf of Mexico Fishery Management Council (Council) will hold a meeting of the Special Red Drum Working Group.

DATES: The meeting will be held from 9 a.m. on Wednesday, September 24 until 5 p.m. on Thursday, September 25, 2014.

ADDRESSES: The meeting will be held at the Gulf of Mexico Fishery Management Council office, 2203 North Lois Avenue, Suite 1100, Tampa, FL 33607.

FOR FURTHER INFORMATION CONTACT: Ryan Rindone, Fishery Biologist, Gulf of Mexico Fishery Management Council; telephone: (813) 348-1630; fax: (813) 348-1711; email: ryan.rindone@gulfcouncil.org.

SUPPLEMENTARY INFORMATION: The items of discussion on the agenda are as follows:

Special Red Drum Working Group Agenda, Wednesday, September 24, 2014, 9 a.m. Until Thursday, September 25, 2014, 5 p.m.

1. Adoption of Agenda

2. Review of Council Charge to the Working Group

3. Overview of Known State-collected Data

4. Review of Available Landings Data

5. Overview of Data-poor Methods and Associated Data Requirements

6. Review of State Methodologies for Determining Juvenile Escapement

7. Other Business

This agenda may be modified as necessary to facilitate the discussion of pertinent materials up to and during the scheduled meeting.

For meeting materials see folder “Special Red Drum Working Group meeting—2014—09” on Gulf Council file server. To access the file server, the URL is https://public.gulfcouncil.org:5001/webman/index.cgi, or go to the Council's Web site and click on the FTP link in the lower left of the Council Web site (http://www.gulfcouncil.org). The username and password are both “gulfguest”. The name of the folder on the FTP server is “Special Red Drum Working Group meeting—2014-09”.

The meeting will be webcast over the Internet. A link to the webcast will be available on the Council's Web site, http://www.gulfcouncil.org.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Kathy Pereira at the Council office (see ADDRESSES), at least 5 working days prior to the meeting.

Note: The times and sequence specified in this agenda are subject to change.

Authority: 16 U.S.C. 1801 et seq.

Dated: September 3, 2014.
Tracey L. Thompson,
Acting Deputy Director, Office of Sustainable Fisheries, National Marine Fisheries Service.

[FR Doc. 2014-21288 Filed 9-5-14; 8:45 am]

BILLING CODE 3510-22-P